DEPARTMENT OF EDUCATION

[Docket ID ED-2014-OSERS-0058]

Extension of Public Comment Period; Request for Information on Addressing Significant Disproportionality Under Section 618(d) of the Individuals With Disabilities Education Act

AGENCY: Office of Special Education and Rehabilitative Services, Department of Education.

ACTION: Notice extending public comment period.

SUMMARY: On June 19, 2014, we published in the Federal Register (79 FR 35154) a request for information (RFI) seeking comment on actions that the Department should take to address significant disproportionality based on race and ethnicity in the identification, placement, and discipline of children with disabilities. The RFI established a July 21, 2014, deadline for the submission of written comments. We are extending the comment period to July 28, 2014.

DATES: Comments must be received on or before July 28, 2014.

ADDRESSES: Submit your comments through the Federal eRulemaking Portal or via postal mail, commercial delivery, or hand delivery. We will not accept comments by fax or by email. Please submit your comments only one time, in order to ensure that we do not receive duplicate copies. In addition, please include the Docket ID at the top of your comments.

• Federal eRulemaking Portal: Go to www.regulations.gov to submit your comments electronically. Information on using Regulations.gov, including instructions for accessing agency documents, submitting comments, and viewing the docket is available on the site under “Are you new to the site?”

• U.S. Mail, Commercial Delivery, or Hand Delivery:

If you mail or deliver your comments about these proposed regulations, address them to the contact person listed under FOR FURTHER INFORMATION CONTACT.

• Privacy Note: The Department's policy is to make all comments received from members of the public available for public viewing in their entirety on the Federal eRulemaking Portal at www.regulations.gov. Therefore, commenters should be careful to include in their comments only information that they wish to make publicly available.

FOR FURTHER INFORMATION CONTACT: Larry Ringer, U.S. Department of Education, 400 Maryland Avenue SW., room 4032, Potomac Center Plaza, Washington, DC 20202-2600. Telephone: (202) 245-7496.

If you use a telecommunications device for the deaf (TDD) or a text telephone (TTY), call the Federal Relay Service (FRS), toll free, at 1-800-877-8339.

SUPPLEMENTARY INFORMATION:

Background:

On June 19, 2014, we published in the Federal Register an RFI seeking comment on actions that the Department should take to address significant disproportionality based on race and ethnicity in the identification, placement, and discipline of children with disabilities. The RFI established July 21, 2014, as the deadline for receiving comments. However, from June 19-25, 2014, the RFI was not consistently available on www.regulations.gov, the Government-wide portal that allows the public to comment electronically on documents in the Federal Register. To ensure that anyone unable to comment during that period has the opportunity to do so, we are extending the deadline for comments to July 28, 2014.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at this site.

You may also access documents of the Department published in the Federal Register by using the article search feature at: www.federalregister.gov. Specifically, through the advanced search feature at this site, you can limit your search to documents published by the Department.

Dated: July 8, 2014.
Michael K. Yudin,
Acting Assistant Secretary for Special Education and Rehabilitative Services.

[FR Doc. 2014-16300 Filed 7-10-14; 8:45 am]

BILLING CODE 4000-01-P